DEPARTMENT OF THE INTERIOR

Bureau of Land Management

[WY-100-07-1610-DP]

Notice of Availability of the Pinedale Draft Resource Management Plan Revision and Environmental Impact Statement

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.) the Bureau of Land Management (BLM) announces the availability of the Pinedale Draft Resource Management Plan Revision and Environmental Impact Statement (Draft RMP/EIS).

DATES: The Draft RMP/EIS will be available for public review for 90 calendar days from the date the Environmental Protection Agency (EPA) publishes its Notice of Availability (NOA) in the Federal Register. The BLM can best use comments and resource information submitted within this review period.

To ensure that the public has an opportunity to comment on the draft document, formal public hearings and open houses will be scheduled in Jackson, Rock Springs, Marbleton, and Pinedale, Wyoming. All meetings, hearings, or other public involvement activities will be announced at least 15 days in advance through public notices, media news releases, Web site announcements, or mailings.

ADDRESSES: Copies of the Draft RMP/EIS have been sent to affected Federal, State and local governments and to interested parties. The document will be available electronically on the following Web site: http://www.blm.gov/rmp/wy/pinedale. Copies of the document will be available for public inspection during normal business hours at the following locations:

• Bureau of Land Management, Wyoming State Office, 5353 Yellowstone Road, Cheyenne, Wyoming 82003.

• Bureau of Land Management, Pinedale Field Office, 432 East Mill Street, P. O. Box 768, Pinedale, Wyoming 82941.

Comments may be submitted by any of the following methods:

• Web site: http://www.blm.gov/rmp/wy/pinedale,

• E-mail: pinedale_wymail@blm.gov,

• Facsimile: (307) 367-5329, or

• Mail: Send to the contact listed below.

FOR FURTHER INFORMATION CONTACT: Kellie Roadifer, Team Leader, BLM Pinedale Field Office, 432 East Mill Street, P.O. Box 768, Pinedale, Wyoming 82941. Ms. Roadifer may also be contacted by telephone: (307) 367-5309. Requests for information may be sent electronically to: pinedale_wymail@blm.gov with Attention: “Pinedale RMP Info Request” in the subject line.

SUPPLEMENTARY INFORMATION: The Pinedale Field Office planning area is located in Sublette and Lincoln Counties, Wyoming. It includes approximately 922,880 acres of public land surface and 1,199,280 acres of Federal mineral estate administered by the BLM.

The existing Pinedale RMP was completed and its Record of Decision (ROD) signed on December 12, 1988. Since completion of the Pinedale RMP, as amended and maintained, new information and changed conditions within the planning area have resulted in a need for the BLM to update that RMP. These changes include but are not limited to: increased oil and gas exploration and development activities, heightened public awareness of and interest in BLM management actions and permitted uses, increasing demand for recreation activities on public lands, increasing conflicts between land uses, changes in national policies and interests, and expanded scientific knowledge and information.

Consistent with Federal regulations found at 43 Code of Federal Regulations (CFR) 1610.2, the BLM published a Notice of Intent (NOI) to prepare an Environmental Impact Statement (EIS) and initiate its revision of the Pinedale RMP (1988). The plan revision process would include review and analyses of current conditions, consideration of new data, new or revised policies, and consideration of circumstances affecting major portions of or the entire geographic area addressed in the 1988 Pinedale RMP. As part of the planning process, the BLM would develop goals and objectives for its management of the public land and resources that it administers. As required by the FLPMA planning regulations, the BLM would produce a revised plan and an EIS.

After its completion and issuance of a ROD, a revised Pinedale RMP/EIS would establish new land allocations and management guidance for the Pinedale planning area. Adoption of the revised RMP/EIS would not alter previously approved site-specific activities and developments such as the natural gas development of the Jonah Field and Pinedale Anticline. Existing leases and development would continue to be managed consistent with their respective operating plans and authorizations. However, if requested by operators or other permit holders, the BLM would consider revising leases and other authorizing instruments to incorporate revised RMP guidance or conditions included in its EIS ROD.

The Draft RMP/EIS describes existing conditions of the physical, biological, cultural, historic, and socioeconomic resources of and surrounding the planning area. Based on planning criteria and resource issues and concerns identified during scoping, alternatives for management were developed and impacts analyzed. Concerns about planning decisions to be made for the following were considered:

1. Energy and mineral resources exploration and economic development;

2. Access to and transportation systems on public lands;

3. Land ownership pattern adjustments;

4. Fire management;

5. Livestock grazing and vegetation management, including management of non-native and invasive species;

6. Air and water quality;

7. Management of impacts land uses and human activities to threatened, endangered, candidate and sensitive species, and wildlife habitat;

8. Management of cultural properties, visual resources, paleontological resources, recreation activities and off-road vehicles;

9. Existing lease rights; and

10. Potential socio-economic consequences of implementing revised plan decisions.

Based on the analyses of alternative management strategies and guidance and interdisciplinary team and cooperating agencies discussions, the Draft RMP/EIS ensures the sustainability of important resources such as crucial big game range and other wildlife habitats, air and water quality, scenic views, healthy vegetative cover, and soil stability while providing for resources uses such as mineral exploration and development, livestock grazing and range improvement, motorized and non-motorized recreation and economic development opportunities.

The BLM analyzed four alternatives for resource management planning in detail:

• Alternative 1 (No Action): Continues the current management goals, objectives and direction specified in the Pinedale RMP and ROD (1988).

• Alternative 2: Maximizes the production of resource commodities while providing an adequate level of environmental protection for other resources.

• Alternative 3: Provides a high level of environmental protection for wildlife habitat and other resource values, while allowing the production of resources commodities.

• Alternative 4 (BLM Preferred Alternative): Optimizes the mix of resource outputs, including production of resource commodities and wildlife habitat, while providing an appropriate level of environmental protection for all resources.

As established by the Pinedale RMP, there are two Areas of Critical Environmental Concern (ACEC), Rock Creek and Beaver Creek, totaling approximately 8,900 acres. With the Preferred Alternative, the BLM proposes to establish two additional ACECs:

• Trappers Point—(4,000 acres): Values of critical concern are big game migration corridors, cultural and historic properties, and livestock trailing. Within this ACEC, fence construction and surface disturbing activities would be prohibited with the exception of activities designed to increase big game migration viability. The Area would be unavailable for oil and gas leasing. Off-road vehicle (ORV) use would be restricted to designated roads and trails and subject to a seasonal closure from November 15th through April 30th.

• New Fork Potholes—(1,800 acres): Values of critical concern are waterfowl, trumpeter swan, and riparian habitats. With the exception of those that would benefit wildlife habitat, surface disturbing activities would be prohibited. The Area would be unavailable for oil and gas leasing. ORV use would be restricted to designated roads and trails.

Three areas were proposed for consideration as ACECs: Ross Butte, White-tailed Prairie Dog and the Wind River Front. While the BLM found that these areas meet relevance and importance criteria and effects of including these proposals analyzed, none of them were recommended for inclusion in BLM's Preferred Alternative. Alternative 4 (Preferred Alternative) would establish two Special Recreation Management Areas (SMRAs): CCC Ponds and Boulder Lake. Alternative 4 also describes special management goals and objectives for Miller Mountain, Ross Butte, and the Wind River Front.

Much of the Pinedale planning area is considered to have a high potential for energy development. For those areas with high potential, the Draft RMP/EIS considers oil and gas, and wind energy development in support of the National Energy Plan and the Energy Policy Act of 2005.

Performance-based land use objectives would be emphasized in Alternative 4 (Preferred Alternative), and applied where appropriate in all alternatives except Alternative 1 (No Action). The Draft RMP/EIS considers and is in conformance with the BLM's National Fire Plan and Healthy Forest Initiative.

The BLM published its Notice of Intent (NOI) to prepare the revised RMP/EIS in the Federal Register on February 25, 2002. The BLM conducted open houses and mailed solicitations for public comments and input. Meetings were held to provide the public with an opportunity to gain information about the RMP revision process and to submit comments. Public meetings were held in the following Wyoming communities: Rock Springs, March 3, 2003; Pinedale, March 10, 2003; and Marbleton, March 11, 2003. During the scoping period the BLM received over 55,000 public comments.

Cooperating agencies assisting BLM in the development and preparation of the Draft RMP/EIS included county governments, conservation districts, other Federal agencies and the State of Wyoming. The BLM contacted tribal governments with possible interests, and offered opportunities for participation in the plan revision process. In preparation of the Draft RMP/EIS, the BLM considered all comments presented throughout the process. Background information and maps used in developing the Draft RMP/EIS are available for public review at the Pinedale Field Office.

The BLM welcomes your comments. To facilitate analysis of comments and information, the public is encouraged to submit comments in an electronic format either through the Web site identified in this notice or through electronic mail.

All comment submittals must include the commenter's name and street address. Comments including the names and street addresses of respondents will be available for public review at the Pinedale Field Office during its business hours (7:45 a.m. to 4:30 p.m.), Monday through Friday except for Federal holidays. Your comments may be published as part of the EIS process. Individual respondents may request confidentiality. If you wish to withhold your name or street address from public review or disclosure under the Freedom of Information Act, you must state this prominently at the beginning of your written comments. Such requests will be honored to the extent allowed by law. Anonymous comments will not be considered. All submissions from organizations or businesses will be made available for public inspection in their entirety.

Donald A. Simpson,
Associate State Director.

[FR Doc. E7-2678 Filed 2-15-07; 8:45 am]

BILLING CODE 4310-22-P